DEPARTMENT OF ENERGY

Federal Energy Regulatory Commission

Combined Notice of Filings #1

Take notice that the Commission received the following exempt wholesale generator filings:

Docket Numbers: EG21-19-000.

Applicants: Sigurd Solar LLC.

Description: Notice of Self-Certification of Exempt Wholesale Generator Status of Sigurd Solar LLC.

Filed Date: 10/30/20.

Accession Number: 20201030-5358.

Comments Due: 5 p.m. ET 11/20/20.

Take notice that the Commission received the following electric rate filings:

Docket Numbers: ER11-2154-014.

Applicants: Twin Eagle Resource Management, LLC.

Description: Notice of Change in Status of Twin Eagle Resource Management, LLC.

Filed Date: 10/29/20.

Accession Number: 20201029-5273.

Comments Due: 5 p.m. ET 11/19/20.

Docket Numbers: ER20-2424-001.

Applicants: Midcontinent Independent System Operator, Inc.

Description: Compliance filing: 2020-10-29_SA 3520 Deficiency Response OTP-Red Pine Wind FSA (H081) to be effective 8/1/2020.

Filed Date: 10/29/20.

Accession Number: 20201029-5004.

Comments Due: 5 p.m. ET 11/19/20.

Docket Numbers: ER21-90-001.

Applicants: Sun Streams 2, LLC.

Description: Tariff Amendment: Supplement to Market-Based Rate Application and Request for Expedited Action to be effective 12/9/2020.

Filed Date: 10/30/20.

Accession Number: 20201030-5343.

Comments Due: 5 p.m. ET 11/20/20.

Docket Numbers: ER21-290-000.

Applicants: NorthWestern Corporation.

Description: § 205(d) Rate Filing: RS 43-SD—EP&C Agreement with East River Electric Power Co-op (Napa Junction) to be effective 11/2/2020.

Filed Date: 10/30/20.

Accession Number: 20201030-5338.

Comments Due: 5 p.m. ET 11/20/20.

Docket Numbers: ER21-291-000.

Applicants: Public Service Company of Colorado.

Description: § 205(d) Rate Filing: 2020-10-30_PSCo Transmission Formula Rate Filing to be effective 1/1/2021.

Filed Date: 10/30/20.

Accession Number: 20201030-5341.

Comments Due: 5 p.m. ET 11/20/20.

Docket Numbers: ER21-292-000.

Applicants: Dynegy Oakland, LLC.

Description: § 205(d) Rate Filing: Annual Reliability Must Run Agreement and Schedule F Informational Filings to be effective 1/1/2021.

Filed Date: 10/30/20.

Accession Number: 20201030-5344.

Comments Due: 5 p.m. ET 11/20/20.

Docket Numbers: ER21-293-000.

Applicants: Horizon West Transmission, LLC.

Description: § 205(d) Rate Filing: Horizon West Transmission, LLc Proposed Formula Rate to be effective 1/1/2021.

Filed Date: 10/30/20.

Accession Number: 20201030-5347.

Comments Due: 5 p.m. ET 11/20/20.

Docket Numbers: ER21-294-000.

Applicants: Public Service Electric and Gas Company.

Description: § 205(d) Rate Filing: Amendment to PECO PSE&G Amtrak Agreement to be effective 1/1/2021.

Filed Date: 10/30/20.

Accession Number: 20201030-5353.

Comments Due: 5 p.m. ET 11/20/20.

Docket Numbers: ER21-295-000.

Applicants: American Transmission Systems, Incorporated, PJM Interconnection, L.L.C.

Description: § 205(d) Rate Filing: ATSI submits ECSAs, Nos. 5715, 5716, 5717, 5718, and 5719 to be effective 12/30/2020.

Filed Date: 10/30/20.

Accession Number: 20201030-5354.

Comments Due: 5 p.m. ET 11/20/20.

Docket Numbers: ER21-296-000.

Applicants: Florida Power & Light Company.

Description: § 205(d) Rate Filing: FPL-TECO Revisions to Rate Schedule No. 23 Contract for Interchange Service to be effective 10/20/2020.

Filed Date: 11/2/20.

Accession Number: 20201102-5002.

Comments Due: 5 p.m. ET 11/23/20.

Docket Numbers: ER21-297-000.

Applicants: Southwest Power Pool, Inc.

Description: § 205(d) Rate Filing: 3746 Tenaska Power Services Co. Attachment AO to be effective 10/1/2020.

Filed Date: 11/2/20.

Accession Number: 20201102-5009.

Comments Due: 5 p.m. ET 11/23/20.

Docket Numbers: ER21-298-000.

Applicants: PJM Interconnection, L.L.C.

Description: § 205(d) Rate Filing: Original WMPA, Service Agreement No. 5836; Queue No. AE2-227/AF2-255 to be effective 9/30/2020.

Filed Date: 11/2/20.

Accession Number: 20201102-5021.

Comments Due: 5 p.m. ET 11/23/20.

Docket Numbers: ER21-299-000.

Applicants: PJM Interconnection, L.L.C.

Description: § 205(d) Rate Filing: Original WMPA, Service Agreement No. 5837; Queue No. AE2-228/AF2-256 to be effective 9/30/2020.

Filed Date: 11/2/20.

Accession Number: 20201102-5026.

Comments Due: 5 p.m. ET 11/23/20.

Docket Numbers: ER21-300-000.

Applicants: Wisconsin Power and Light Company.

Description: § 205(d) Rate Filing: QF Rider Wholesale Rate Filing (WPL) to be effective 12/31/2020.

Filed Date: 11/2/20.

Accession Number: 20201102-5050.

Comments Due: 5 p.m. ET 11/23/20.

Docket Numbers: ER21-301-000.

Applicants: San Diego Gas & Electric Company.

Description: § 205(d) Rate Filing: 2021 TRBAA Update to be effective 1/1/2021.

Filed Date: 11/2/20.

Accession Number: 20201102-5091.

Comments Due: 5 p.m. ET 11/23/20.

Docket Numbers: ER21-302-000.

Applicants: New York Independent System Operator, Inc.

Description: § 205(d) Rate Filing: NYISO 205 filing re: Implementation Agreement (SA 2575) with Helix Ravenswood to be effective 11/5/2020.

Filed Date: 11/2/20.

Accession Number: 20201102-5101.

Comments Due: 5 p.m. ET 11/23/20.

Docket Numbers: ER21-303-000.

Applicants: Tri-State Generation and Transmission Associations, Inc.

Description: § 205(d) Rate Filing: Amendment to Service Agreement No. 822 to be effective 10/30/2020.

Filed Date: 11/2/20.

Accession Number: 20201102-5132.

Comments Due: 5 p.m. ET 11/23/20.

Take notice that the Commission received the following foreign utility company status filings:

Docket Numbers: FC21-1-000.

Applicants: I Squared Capital.

Description: Self-Certification of FC of I Squared Capital.

Filed Date: 10/30/20.

Accession Number: 20201030-5373.

Comments Due: 5 p.m. ET 11/20/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2020.
Nathaniel J. Davis, Sr.,
Deputy Secretary.

[FR Doc. 2020-24697 Filed 11-5-20; 8:45 am]

BILLING CODE 6717-01-P